COMMITTEE FOR PURCHASE FROM PEOPLE WHO ARE BLIND OR SEVERELY DISABLED

Procurement List Additions

AGENCY: Committee for Purchase from People Who Are Blind or Severely Disabled.

ACTION: Additions to Procurement List.

SUMMARY: This action adds to the Procurement List products and services to be furnished by nonprofit agencies employing persons who are blind or have other severe disabilities.

EFFECTIVE DATE: October 6, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On July 27, 2001, and July 12, 2002, the Committee for Purchase From People Who Are Blind or Severely Disabled published notice (66 FR 39142, and 67 FR 46170) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: Pen, Free Ink, Rollerball, Needle Point,

7520-00-NIB-1538 (Black 5mm),

7520-00-NIB-1539 (Black 7mm),

7520-00-NIB-1540 (Blue 5mm),

7520-00-NIB-1541 (Blue 7mm),

7520-00-NIB-1542 (Red 5mm),

7520-00-NIB-1543 (Red 7mm).

NPA: San Antonio Lighthouse, San Antonio, Texas.

Contract Activity: Office Supplies & Paper Products Acquisition Center, New York, New York.

Services

Service Type/Location: Food Service Attendant, Dakota Inn (Flight Kitchen and Alert Facility), Minot AFB, North Dakota.

NPA: MVW Services, Inc., Minot, North Dakota.

Contract Activity: Department of the Air Force, Minot AFB, North Dakota.

Service Type/Location: Grounds Maintenance

USCG Chief of Staff Quarters, Bethesda, Maryland

USCG Commandant Quarters, Kenwood, Maryland

USCG Vice Commandant Quarters, Bethesda, Maryland

NPA: The Arc of Montgomery County, Inc., Rockville, Maryland.

Contract Activity: USCG Headquarters HSC A-3, Washington, DC.

Service Type/Location: Janitorial/Custodial, Air Traffic Control Tower (Midway Airport), Chicago, Illinois.

NPA: Jewish Vocational Service & Employment Center, Chicago, Illinois.

Contract Activity: Federal Aviation Administration, Des Plaines, Illinois.

Service Type/Location: Janitorial/Custodial, FAA Chicago/Tracon, Elgin, Illinois.

NPA: Jewish Vocational Service & Employment Center, Chicago, Illinois.

Contract Activity: Federal Aviation Administration, Des Plaines, Illinois.

Service Type/Location: Janitorial/Custodial, VA Greater Los Angeles Regional Healthcare System, Consolidated Mail Outpatient Pharmacy, Los Angeles, California.

NPA: Job Options, Inc., San Diego, California.

Contract Activity: Department of Veterans Affairs, Long Beach, California.

Service Type/Location: Laundry Service,

National Training Center,

Fort Irwin, California.

NPA: Job Options, Inc., San Diego, California.

Contract Activity: Department of the Army, Fort Irwin, California.

This action does not affect current contracts awarded prior to the effective date of this addition or options that may be exercised under those contracts.

G. John Heyer,
General Counsel.

[FR Doc. 02-22723 Filed 9-5-02; 8:45 am]

BILLING CODE 6353-01-P